DEPARTMENT OF COMMERCE

National Oceanic and Atmospheric Administration

RIN: 0648-XH42

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council's (MAFMC) Ad Hoc Excessive Shares Committee will hold a public meeting.

DATES: The meeting will be held on Thursday, May 15, 2008, from noon until 4 p.m.

ADDRESSES: The meeting will be held at the Sheraton Suites Wilmington, 422 Delaware Ave., Wilmington, DE 19801, telephone: (302) 654-8300.

Council address: Mid-Atlantic Fishery Management Council, Room 2115, 300 S. New Street, Dover, DE 19904, telephone: (302) 674-2331.

FOR FURTHER INFORMATION CONTACT: Daniel T. Furlong, Executive Director, Mid-Atlantic Fishery Management Council; telephone: (302) 674-2331, extension 19.

SUPPLEMENTARY INFORMATION: The purpose of this meeting will be to review and discuss the application of: Magnuson-Stevens Act (MSA) National Standard 4 [Section 301(a)(4) of MSA]; allocation of limited access privilege program shares so that no shareholder acquires an excessive share [Section 303A(c)(5)(D) of MSA]; and, the antitrust savings clause [Section 303A(c)(9) of MSA]. The Committee will also address the concept of one-size-fits-all and the use of cases-by-case approaches regarding determining excessive share thresholds and/or ceilings.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to M. Jan Bryan at the Council office, (302) 674-2331 extension 18, at least 5 days prior to the meeting date.

Dated: April 21, 2008.
Tracey L. Thompson,
Acting Director, Office of Sustainable Fisheries, National Marine Fisheries Service.

[FR Doc. E8-8939 Filed 4-23-08; 8:45 am]

BILLING CODE 3510-22-S